DEPARTMENT OF AGRICULTURE

Rural Business-Cooperative Service

Notice of Request for Extension of a Currently Approved Information Collection

AGENCY: Rural Business-Cooperative Service, USDA.

ACTION: Proposed collection; comments requested.

SUMMARY: In accordance with the Paperwork Reduction Act of 1995, this notice announces the Rural Business-Cooperative Service's intention to request an extension for a currently approved information collection in support of the Energy Audit and Renewable Energy Development Assistance (EA/REDA) program administered under the Rural Energy for America Program (REAP).

DATES: Comments on this notice must be received by March 5, 2012 to be assured of consideration.

FOR FURTHER INFORMATION CONTACT: Amy Cavanaugh, Management and Program Analyst, Rural Development, U.S. Department of Agriculture, STOP 3252, 1400 Independence Ave. SW., Washington, DC 20250-3201, Telephone (202) 260-1506.

SUPPLEMENTARY INFORMATION: Title: Energy Audit and Renewable Energy Development Assistance Program.

OMB Number: 0570-0059.

Expiration Date of Approval: July 31, 2012.

Type of Request: Extension of a currently approved information collection.

Abstract: The Agency anticipates publishing a proposed rule for REAP in calendar year 2012. This proposed rule will include changes to the EA/REDA program as well as combine all associated burden for REAP into one paperwork burden package. Since the current EA/REDA paperwork burden package expires July 31, 2012, the period of time between expiration and the publication of a REAP final rule would have to allow for continued operation of the program. Thus, approval for extension is needed.

This grant program, authorized under the 2008 Farm Bill, makes grants to eligible entities to provide energy audits and renewable energy development assistance to enable agricultural producers and rural small businesses to become more energy efficient and to use renewable energy technologies and resources. Entities eligible to receive grants under this program are State, tribal and local governments; land-grant colleges and universities or other institutions of higher learning; rural electric cooperatives; public power entities and instrumentalities of a State, tribal, or local government. Grant funds under this program may be used to conduct and promote energy audits; provide recommendations and information on how to improve the energy efficiency of the operations of the agricultural producers and rural small businesses; and provide recommendations and information on how to use renewable energy technologies and resources in the operations. No more than five percent of the grant can be used for administrative purposes. Agricultural producers and rural small businesses for which a grantee is conducting an energy audit must pay at least 25 percent of the cost of the energy audit.

Estimate of Burden: Public reporting burden for this collection of information is estimated to average 1.3 hours per response.

Respondents: State, tribal and local governments; land-grant colleges and universities or other institutions of higher learning; rural electric cooperatives; public power entities; and instrumentalities of a State, tribal, or local government.

Estimated Number of Respondents: 53.

Estimated Number of Responses per Respondent: 16.

Estimated Number of Responses: 865.

Estimated Total Annual Burden on Respondents: 1,161.

Copies of this information collection can be obtained from Jeanne Jacobs, Regulations and Paperwork Management Branch, Support Services Division at (202) 692-0040.

Comments: Comments are invited on: (a) Whether the proposed collection of information is necessary for the proper performance of the functions of USDA, including whether the information will have practical utility; (b) the accuracy of USDA's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent to Jeanne Jacobs, Regulations and Paperwork Management Branch, Support Services Division, U.S. Department of Agriculture, Rural Development, STOP 0742, 1400 Independence Ave. SW., Washington, DC 20250-0742. All responses to this notice will be summarized and included in the request for OMB approval. All comments will also become a matter of public record.

Dated: December 21, 2011.
Judith A. Canales,
Administrator, Rural Business-Cooperative Service.

[FR Doc. 2011-33687 Filed 1-3-12; 8:45 am]

BILLING CODE 3410-XY-P